NATIONAL ARCHIVES AND RECORDS ADMINISTRATION

[NARA-2017-055]

Records Management; General Records Schedule (GRS); GRS Transmittal 28

AGENCY: National Archives and Records Administration (NARA).

ACTION: Notice of new General Records Schedule (GRS) Transmittal 28.

SUMMARY: NARA is issuing a new set of General Records Schedules (GRS) via GRS Transmittal 28. The GRS provides mandatory disposition instructions for administrative records common to several or all Federal agencies. Transmittal 28 announces changes we have made to the GRS since we published Transmittal 27 in January. We are concurrently disseminating Transmittal 28 (the memo and the accompanying records schedules and documents) directly to each agency's records management official and have also posted it on NARA's Web site.

DATES: This transmittal is effective the date it publishes in the Federal Register.

ADDRESSES: You can find this transmittal on NARA's Web site at http://www.archives.gov/records-mgmt/grs/. You can download the complete current GRS, in PDF format, from NARA's Web site at http://www.archives.gov/records-mgmt/grs.html.

FOR FURTHER INFORMATION CONTACT: For more information about this notice or to obtain paper copies of the GRS, contact Kimberly Keravuori, External Policy Program Manager, by email at regulation_comments@nara.gov or by telephone at 301.837.3151.

Writing and maintaining the GRS is the GRS Team's responsibility. This team is part of Records Management Services in the National Records Management Program, Office of the Chief Records Officer at NARA. You may contact NARA's GRS Team with general questions about the GRS at GRS_Team@nara.gov.

Your agency's records officer may contact the NARA appraiser or records analyst with whom your agency normally works for support in carrying out this transmittal and the revised portions of the GRS. You may access a list of the appraisal and scheduling work group and regional contacts on our Web site at http://www.archives.gov/records-mgmt/appraisal/index.html.

SUPPLEMENTARY INFORMATION: GRS Transmittal 28 announces changes to the General Records Schedules (GRS) made since NARA published GRS Transmittal 27 in January 2017. The GRS provide mandatory disposition instructions for records common to several or all Federal agencies. We are nearing the end of our five-year plan to completely rewrite the GRS. With Transmittal 28, 92% of old items are now superseded.

Transmittal 28 includes only schedules newly issued or updated since the last transmittal, those schedules' associated new-to-old crosswalks and FAQs, an update to the FAQs for GRS 6.1 (but not schedule 6.1 itself, which remains unchanged), and an update to the FAQs about Flexible Dispositions. This means that many current GRS schedules are not included in this Transmittal.

This means that many current GRS schedules are not included in this Transmittal. You can find all schedules (in Word, PDF, and CSV formats), crosswalks and FAQs for all schedules, and FAQs about the whole GRS at http://www.archives.gov/records-mgmt/grs.html. At the same location, you can also find the entire GRS (just schedules—no crosswalks or FAQs) in a single document (https: //www.archives.gov/files/records-mgmt/grs/trs28-sch-only.pdf).

What changes does this transmittal make to the GRS?

GRS Transmittal 28 publishes nine new schedules:

GRS 2.1 Employee Acquisition Records | DAA-GRS-2014-0002
GRS 2.2 Employee Management Records | DAA-GRS-2017-0007
GRS 2.3 Employee Relations Records | DAA-GRS-2015-0007
GRS 2.4 Employee Compensation and Benefits Records | DAA-GRS-2016-0015
GRS 5.1 Common Office Records | DAA-GRS-2016-0016
GRS 5.2 Transitory and Intermediary Records | DAA-GRS-2017-0003
GRS 5.6 Security Records | DAA-GRS-2017-0006
GRS 5.8 Administrative Help Desk Records | DAA-GRS-2017-0001
GRS 6.5 Public Customer Service Records | DAA-GRS-2017-0002

It also publishes a new item in one schedule: GRS 1.1, Financial Management and Reporting Records (see question 3). In addition, it supersedes in its entirety GRS 4.3, Input Records, Output Records, and Electronic Copies (see question 4).

This transmittal also includes an updated table of contents that shows some alterations to the previously published schedule titles. Research led us to conclude that it is not possible at this time to write a GRS for legal records, so the number assigned to that anticipated schedule—GRS 6.3—has been assigned instead to Information Technology Records. A new schedule for rulemaking records is GRS 6.6. Both 6.3 and 6.6 should be published in Transmittal 29.

This transmittal publishes a revised Frequently Asked Questions (FAQs) for GRS 6.1. The revisions include adding new GRS citations where appropriate; removing unnecessary references to some CFR citations in Q3; clarifying Q4 text; clarifying culling in Q22; and clarifying how to report calendars, appointments, tasks, chat transcripts, and other communications on NA-1005 in Q27. Finally, this transmittal publishes updated FAQs on Flexible Dispositions, adding a new Q6 about batching records for disposal.

How has GRS 1.1 changed? How might these changes affect my agency?

We added one new item (080) to cover administrative claims made by or against the Federal Government. We also added three new questions to the GRS 1.1 FAQs concerning travel receipts scanned into e-systems (question 9), audit records (question 16) and use of item 080 (question 18).

Why did you delete GRS 4.3?

We deleted GRS 4.3, Input Records, Output Records, and Electronic Copies, because we have superseded its seven items with two new items in GRS 5.1 and 5.2. We superseded GRS 4.3, item 040, Non-recordkeeping copies of electronic records, with the closely parallel and identically titled GRS 5.1, item 020. We moved it to 5.1 to place it in context with other common office records. The new item is media-neutral. We superseded GRS 4.3, items 010, 011, 020, 030, 031, and 040 with GRS 5.2, item 020, Intermediary records. We found we could gather records of various formats from various sources into a single unit by recognizing this unifying trait: They are stopping points en route to a final record scheduled elsewhere.

What GRS items does GRS Transmittal 28 rescind?

Many old GRS items are superseded by new GRS items. A few old items, however, have outlived their usefulness and cannot be crosswalked to new items. The table below lists old items newly rescinded by GRS Transmittal 28.

GRS | Item | Title | Reason
1 | 1a | Official Personnel Folders: Transferred employees | Was simply a filing/handling instruction and never had an associated disposition authority.
1 | 2a 2b | Service Record Cards | The Service Record Card (SF 7) became obsolete in 1994.
1 | 6 | Employee Record Cards | The Employee Record Card (SF 7b) became obsolete in 1993.
1 | 7a1 | Position Classification Standards Files | Non-record technical reference in all agencies but OPM, where they are mission records.
1 | 7a2b | Position Classification Standards Review Files | No longer exist in the electronic world. If on paper, they are non-record duplicates.
1 1 | 7c1 7c2 | Classification survey reports Inspection, audit, and survey files | OPM believes these records no longer exist.
1 | 11 | Position Identification Strips | These records no longer exist.
1 | 13 | Incentive Awards Program Reports | Agencies are no longer required to complete OPM Form 1465. Instead, OPM extracts data from the Enterprise Human Resources Integration-Statistical Data Mart to report Government-wide data on cash and time-off awards.
1 | 25b | Copies of EEO Complaint Case Files | These are non-record duplicates.
1 | 25e | Employee Housing Requests | Item does not appear to be in use.
1 | 33d | Test Material Stock Control | Blank unused forms are not records.
1 | 33h | Letters to Applicants Denying Transfer of Eligibility | OPM Form 4896 is obsolete and the entire work process no longer exists.
1 | 35b1 | Health benefits denied, appealed to OPM for reconsideration: Appeal successful—benefits granted | Replaced by GRS 2.4, item 110. Like the old item, the new item instructs about filing, not disposition. As a result, it cannot be entered into ERA so cannot supersede the old. The old item must therefore be rescinded.
2 | 1a | Pay record for each employee as maintained in an electronic data base | Item was not a disposition instruction but rather an instruction to make sure the current record is full and correct.
2 | 2 | Noncurrent Payroll Files | Item authorized periodic disposal of system data after long-term records were downloaded and safeguarded. Such data is now covered under 5.1, item 020.
2 | 14a 14b 14c | Savings Bond Purchase Files | Paper savings bond purchase via payroll deduction was discontinued in 2010. Payroll deductions under the current TreasuryDirect e-system are covered in GRS 2.4, item 010.
2 | 23b | Payroll Change Files: all other files | Electronic payroll processing means these records no longer exist.
26 | 1b | Internal agency committees related to an agency's mission | Item is not a disposition instruction. It tells agencies to submit a schedule for records. Now handled via a note in GRS 5.1, item 030.

Rescinded items are shown in context of their schedules in the old-to-new crosswalk.

How do I cite new GRS items?

When you send records to an FRC for storage, you should cite the records' legal authority—the “DAA” number—in the “Disposition Authority” column of the table. For informational purposes, please include schedule and item number. For example, “DAA-GRS-2013-0001-0004 (GRS 4.3, item 020).”

Do I have to take any action to implement these GRS changes?

NARA regulations (36 CFR 1226.12(a)) require agencies to disseminate GRS changes within six months of receipt.

Per 36 CFR 1227.12(a)(1), you must follow GRS dispositions that state they must be followed without exception.

Per 36 CFR 1227.12(a)(3), if you have an existing schedule that differs from a new GRS item that does not require being followed without exception, and you wish to continue using your agency-specific authority rather than the GRS authority, you must notify NARA within 120 days of the date of this transmittal.

If you do not have an already existing agency-specific authority but wish to apply a retention period that differs from that specified in the GRS, you must submit a records schedule to NARA for approval via the Electronic Records Archives.

How do I get copies of the new GRS?

You can download the complete current GRS, in PDF format, from NARA's Web site at http://www.archives.gov/records-mgmt/grs.html.

Whom do I contact for further information?

Writing and maintaining the GRS is the responsibility of the GRS Team. You may contact the team with general questions about the GRS at GRS_Team@nara.gov. This team is part of Records Management Services in the National Records Management Program of the Office of the Chief Records Officer at NARA.

Your agency's records officer may contact the NARA appraiser or records analyst with whom your agency normally works for support in carrying out this transmittal. A list of the appraisal and scheduling work group and regional contacts is on the NARA Web site at http://www.archives.gov/records-mgmt/appraisal/index.html.

David S. Ferriero,
Archivist of the United States.

[FR Doc. 2017-15250 Filed 7-19-17; 8:45 am]

BILLING CODE 7515-01-P